DEPARTMENT OF ENERGY

Federal Energy Regulatory Commission

Notice of Pacific Gas and Electric Company's Request To Use Alternative Procedures in Filing an Amendment Application

January 11, 2000.

Take notice that the following hydroelectric application has been filed with the Commission and is available for public inspection:

a. Type of Application: Request To Use Alternative Amendment Procedures.

b. Project No.: 1121-050.

c. Date filed: December 13, 1999.

d. Applicant: Pacific Gas and Electric Company.

e. Name of Project: Battle Creek Hydroelectric Project.

f. Location: On Battle Creek and its tributaries, in Shasta and Tehama Counties, California. Part of the Battle Creek Project affects lands of the United States within Lassen National Forest and lands under the supervision of the Bureau of Land Management.

g. Filed Pursuant to: Section 23(b) of the Federal Power Act, 16 U.S.C. 817(b).

h. Applicant Contract: Angela Risdon, Senior License Coordinator, Pacific Gas and Electric Company, Mail Code N11C, P.O. Box 770000, San Francisco, CA 94177.

i. FERC Contract: Any questions on this notice should be addressed to Thomas LoVullo, E-mail address thomas.lovullo@ferc,fed.us, or telephone 202-219-1168.

j. Deadline for filing comments: 30 days from the date of this notice. All comments must be filed by providing an original and eight copies, as required by the Commission's regulations to: David P. Boergers, Secretary, Federal Energy Regulatory Commission, 888 First Street, NE, Washington, DC 20426.

Further, all comment filings must include the project name and number (Battle Creek Project, No. 1121) and the heading “Comments on the Alternative Procedure”. The Commission's Rules of Practice and Procedure require all intervenors filing documents with the Commission to serve a copy of that document on each person whose name appears on the official service list for the project. If an intervenor files comments or documents with the Commission relating to the merits of an issue that may affect the responsibilities of a particular resource agency, the must also serve a copy of the document on that resource agency.

k. Status of environmental analysis: This application is not ready for environmental analysis at this time.

l. Description of Request: PG&E requests Commission approval to use alternative amendment procedures for developing a license amendment application for the Battle Creek Project. PG&E has demonstrated that it made a reasonable effort to contact the resources agencies, non-governmental organizations and others who may be affected by their proposal and submitted a communication protocol governing how participants in the proposed process would communicate with each other. PG&E believes there is a consensus on using the alternative process.

The purpose of this notice is to invite comments on PG&E's request to use the alternative procedure. The alternative procedure is intended to simplify and expedite the amendment process by combining prefiling consultation and environmental review processes into a single process, and by facilitating greater participation and improved communication and cooperation among participants. The alternative procedure can be tailored to the project under consideration.

m. Locations of the application: A copy of the application is available for inspection and reproduction at the Commission's Public Reference Room, located at 888 First Street, NE, Room 2A, Washington, DC 20426, or by calling (202) 208-1371. The application may be viewed on the web at www.ferc.fed.us. Call (202) 208-2222 for assistance. A copy is also available for inspection and reproduction at the address in item h above.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the tile “COMMENTS”, “NOTICE OF INTENT TO FILE COMPETING APPLICATION”, “COMPETING APPLICATION”, “PROTEST”, “MOTION TO INTERVENE”, as applicable, and the Project Number of the particular application to which the filing refers. Any of the above-named documents must be filed by providing the original and the number of copies provided by the Commission's regulations to: The Secretary, Federal Energy Regulatory Commission, 888 First Street, NE, Washington, DC 20426. An additional copy must be sent to Director, Division of Project Review, Federal Energy Regulatory Commission, at the above-mentioned address. A copy of any notice of intent competing application or motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-1009 Filed 1-14-00; 8:45am]

BILLING CODE 6717-01-M